DEPARTMENT OF HOMELAND SECURITY

Federal Emergency Management Agency

44 CFR Part 64

[Docket ID FEMA-2011-0002; Internal Agency Docket No. FEMA-8205]

Suspension of Community Eligibility

AGENCY: Federal Emergency Management Agency, DHS.

ACTION: Final rule.

SUMMARY: This rule identifies communities, where the sale of flood insurance has been authorized under the National Flood Insurance Program (NFIP), that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Mitigation Directorate, Federal Emergency Management Agency, 500 C Street SW., Washington, DC 20472, (202) 646-2953.

SUPPLEMENTARY INFORMATION: The NFIP enables property owners to purchase flood insurance which is generally not otherwise available. In return, communities agree to adopt and administer local floodplain management aimed at protecting lives and new construction from future flooding. Section 1315 of the National Flood Insurance Act of 1968, as amended, 42 U.S.C. 4022, prohibits flood insurance coverage as authorized under the NFIP, 42 U.S.C. 4001 et seq.; unless an appropriate public body adopts adequate floodplain management measures with effective enforcement measures. The communities listed in this document no longer meet that statutory requirement for compliance with program regulations, 44 CFR part 59. Accordingly, the communities will be suspended on the effective date in the third column. As of that date, flood insurance will no longer be available in the community. However, some of these communities may adopt and submit the required documentation of legally enforceable floodplain management measures after this rule is published but prior to the actual suspension date. These communities will not be suspended and will continue their eligibility for the sale of insurance. A notice withdrawing the suspension of the communities will be published in the Federal Register.

In addition, FEMA has identified the Special Flood Hazard Areas (SFHAs) in these communities by publishing a Flood Insurance Rate Map (FIRM). The date of the FIRM, if one has been published, is indicated in the fourth column of the table. No direct Federal financial assistance (except assistance pursuant to the Robert T. Stafford Disaster Relief and Emergency Assistance Act not in connection with a flood) may legally be provided for construction or acquisition of buildings in identified SFHAs for communities not participating in the NFIP and identified for more than a year, on FEMA's initial flood insurance map of the community as having flood-prone areas (section 202(a) of the Flood Disaster Protection Act of 1973, 42 U.S.C. 4106(a), as amended). This prohibition against certain types of Federal assistance becomes effective for the communities listed on the date shown in the last column. The Administrator finds that notice and public comment under 5 U.S.C. 553(b) are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region III
Virginia:
Suffolk, City of, Independent City | 510156 | January 22, 1975, Emerg; November 16, 1990, Reg; November 16, 2011, Susp | Nov. 16, 2011 | Nov. 16, 2011.
Region V
Illinois:
Central City, Village of, Marion County | 170452 | September 5, 1975, Emerg; November 2, 1983, Reg; November 16, 2011, Susp | ......do | Do.
Centralia, City of, Marion County | 170453 | July 2, 1975, Emerg; December 18, 1984, Reg; November 16, 2011, Susp | ......do | Do.
Salem, City of, Marion County | 170454 | September 9, 1974, Emerg; May 1, 1979, Reg; November 16, 2011, Susp | ......do | Do.
Indiana:
Culver, Town of, Marshall County | 180384 | August 15, 1975, Emerg; May 2, 1980, Reg; November 16, 2011, Susp | ......do | Do.
Marshall County, Unincorporated Areas | 180443 | June 14, 1979, Emerg; January 5, 1989, Reg; November 16, 2011, Susp | ......do | Do.
Michigan:
Alpena, City of, Alpena County | 260010 | August 28, 1973, Emerg; November 19, 1982, Reg; November 16, 2011, Susp | ......do | Do.
Minnesota:
Becker, City of, Sherburne County | 270710 | N/A, Emerg; June 12, 2000, Reg; November 16, 2011, Susp | ......do | Do.
Big Lake, City of, Sherburne County | 270663 | February 17, 1976, Emerg; December 26, 1978, Reg; November 16, 2011, Susp | ......do | Do.
Elk River, City of, Sherburne County | 270436 | February 19, 1974, Emerg; May 2, 1977, Reg; November 16, 2011, Susp | ......do | Do.
Princeton, City of, Sherburne County | 270292 | July 2, 1974, Emerg; June 15, 1981, Reg; November 16, 2011, Susp | ......do | Do.
Sherburne County, Unincorporated Areas | 270435 | May 16, 1974, Emerg; May 19, 1981, Reg; November 16, 2011, Susp | ......do | Do.
Zimmerman, City of, Sherburne County | 270756 | N/A, Emerg; May 9, 2000, Reg; November 16, 2011, Susp | ......do | Do.
Wisconsin:
Bay City, Village of, Pierce County | 555543 | July 31, 1970, Emerg; June 11, 1971, Reg; November 16, 2011, Susp | ......do | Do.
Ellsworth, Village of, Pierce County | 550325 | August 28, 1974, Emerg; May 4, 1989, Reg; November 16, 2011, Susp | ......do | Do.
Elmwood, Village of, Pierce County | 550326 | April 29, 1975, Emerg; March 5, 1990, Reg; November 16, 2011, Susp | ......do | Do.
Maiden Rock, Village of, Pierce County | 550327 | July 25, 1975, Emerg; September 30, 1988, Reg; November 16, 2011, Susp | ......do | Do.
Pierce County, Unincorporated Areas | 555571 | December 31, 1970, Emerg; July 14, 1972, Reg; November 16, 2011, Susp | ......do | Do.
Plum City, Village of, Pierce County | 550328 | May 12, 1975, Emerg; January 3, 1990, Reg; November 16, 2011, Susp | ......do | Do.
Prescott, City of, Pierce County | 555574 | October 23, 1970, Emerg; July 9, 1971, Reg; November 16, 2011, Susp | ......do | Do.
River Falls, City of, Pierce County | 550330 | March 30, 1972, Emerg; December 15, 1982, Reg; November 16, 2011, Susp | ......do | Do.
Spring Valley, Village of, Pierce County | 550331 | July 2, 1975, Emerg; March 15, 1984, Reg; November 16, 2011, Susp | ......do | Do.
Region VI
New Mexico:
Ruidoso, Village of, Lincoln County | 350033 | July 26, 1974, Emerg; March 2, 1983, Reg; November 16, 2011, Susp | ......do | Do.
Texas:
Dublin, City of, Erath County | 480219 | September 10, 1975, Emerg; August 8, 1978, Reg; November 16, 2011, Susp | ......do | Do.
Erath County, Unincorporated Areas | 480218 | March 2, 2000, Emerg; April 1, 2004, Reg; November 16, 2011, Susp | ......do | Do.
Stephenville, City of, Erath County | 480220 | March 11, 1974, Emerg; July 5, 1977, Reg; November 16, 2011, Susp | ......do | Do.
Region VII
Iowa:
Albion, City of, Marshall County | 190542 | March 30, 2009, Emerg; N/A, Reg; November 16, 2011, Susp | ......do | Do.
Ferguson, City of, Marshall County | 190457 | July 13, 2010, Emerg; N/A, Reg; November 16, 2011, Susp | ......do | Do.
Le Grand, City of, Marshall County | 190606 | December 5, 1977, Emerg; September 1, 1987, Reg; November 16, 2011, Susp | ......do | Do.
Marshall County, Unincorporated Areas | 190890 | September 19, 1997, Emerg; June 30, 2003, Reg; November 16, 2011, Susp | ......do | Do.
Marshalltown, City of, Marshall County | 190200 | May 2, 1975, Emerg; April 17, 1984, Reg; November 16, 2011, Susp | ......do | Do.
Nebraska:
Indianola, City of, Red Willow County | 310382 | October 20, 1975, Emerg; November 16, 1990, Reg; November 16, 2011, Susp | ......do | Do.
Red Willow County, Unincorporated Areas | 310469 | June 18, 1984, Emerg; May 1, 1988, Reg; November 16, 2011, Susp | ......do | Do.
Region VIII
Colorado:
Breckenridge, Town of, Summit County | 080172 | July 25, 1975, Emerg; June 4, 1980, Reg; November 16, 2011, Susp | ......do | Do.
Frisco, Town of, Summit County | 080245 | December 2, 1976, Emerg; May 15, 1980, Reg; November 16, 2011, Susp | ......do | Do.
Silverthorne, Town of, Summit County | 080201 | July 16, 1975, Emerg; May 1, 1980, Reg; November 16, 2011, Susp | ......do | Do.
Summit County, Unincorporated Areas | 080290 | November 26, 1976, Emerg; December 16, 1980, Reg; November 16, 2011, Susp | ......do | Do.
South Dakota:
Minnehaha County, Unincorporated Areas | 460057 | November 11, 1974, Emerg; September 5, 1979, Reg; November 16, 2011, Susp | ......do | Do.
Sioux Falls, City of, Minnehaha County | 460060 | April 12, 1974, Emerg; January 17, 1979, Reg; November 16, 2011, Susp | ......do | Do.
Wyoming:
Afton, Town of, Lincoln County | 560068 | June 18, 1982, Emerg; February 19, 1986, Reg; November 16, 2011, Susp | ......do | Do.
Cokeville, Town of, Lincoln County | 560033 | November 21, 1975, Emerg; February 19, 1987, Reg; November 16, 2011, Susp | ......do | Do.
Diamondville, Town of, Lincoln County | 560034 | April 8, 1977, Emerg; September 29, 1978, Reg; November 16, 2011, Susp | ......do | Do.
Kemmerer, Town of, Lincoln County | 560035 | August 15, 1978, Emerg; August 15, 1978, Reg; November 16, 2011, Susp | ......do | Do.
Lincoln County, Unincorporated Areas | 560032 | June 23, 1978, Emerg; February 15, 1980, Reg; November 16, 2011, Susp | ......do | Do.
Opal, Town of, Lincoln County | 560098 | May 9, 1997, Emerg; May 9, 1997, Reg; November 16, 2011, Susp | ......do | Do.
Region IX
Nevada:
Ely, City of, White Pine County | 320023 | July 19, 1974, Emerg; June 15, 1984, Reg; November 16, 2011, Susp | ......do | Do.
*......do = Ditto.
Code for reading third column: Emerg.—Emergency; Reg.—Regular; Susp.—Suspension.

David L. Miller,
Associate Administrator, Federal Insurance and Mitigation Administration, Department of Homeland Security, Federal Emergency Management Agency.

[FR Doc. 2011-29604 Filed 11-15-11; 8:45 am]

BILLING CODE 9110-12-P